DEPARTMENT OF ENERGY

Federal Energy Regulatory Commission

Combined Notice of Filings

Take notice that the Commission has received the following Natural Gas Pipeline Rate and Refund Report filings:

Filings Instituting Proceedings

Docket Numbers: PR23-12-000.

Applicants: Dow Pipeline Company.

Description: § 284.123 Rate Filing: Petition for Rate Approval to be effective 12/1/2022.

Filed Date: 11/29/22.

Accession Number: 20221129-5139.

Comment Date: 5 p.m. ET 12/20/22.

Docket Numbers: PR23-13-000.

Applicants: The East Ohio Gas Company.

Description: § 284.123(g) Rate Filing: Operating Statement of The East Ohio Gas Company 11/2/2022 to be effective 11/2/2022.

Filed Date: 11/30/22.

Accession Number: 20221130-5003.

Comment Date: 5 p.m. ET 12/21/22.

184.123(g) Protest: 5 p.m. ET 1/30/23.

Docket Numbers: PR23-14-000.

Applicants: Public Service Company of Colorado.

Description: § 284.123(g) Rate Filing: Statement of Rates & Statement of Op. Conditions_eff 11.1.22 to be effective 11/1/2022.

Filed Date: 11/30/22.

Accession Number: 20221130-5063.

Comment Date: 5 p.m. ET 12/21/22.

184.123(g) Protest: 5 p.m. ET 1/30/23.

Docket Numbers: RP23-213-000.

Applicants: Rockies Express Pipeline LLC.

Description: § 4(d) Rate Filing: REX 2022-11-29 Negotiated Rate Agreement Amendment to be effective 11/28/2022.

Filed Date: 11/29/22.

Accession Number: 20221129-5123.

Comment Date: 5 p.m. ET 12/12/22.

Docket Numbers: RP23-214-000.

Applicants: Chandeleur Pipe Line, LLC.

Description: Compliance filing: Chandeleur FLLA Filing to be effective N/A.

Filed Date: 11/29/22.

Accession Number: 20221129-5186.

Comment Date: 5 p.m. ET 12/12/22.

Docket Numbers: RP23-215-000.

Applicants: Kinder Morgan Louisiana Pipeline LLC.

Description: § 4(d) Rate Filing: Fuel Adjustment Effective January 1, 2023 to be effective 1/1/2023.

Filed Date: 11/30/22.

Accession Number: 20221130-5000.

Comment Date: 5 p.m. ET 12/12/22.

Docket Numbers: RP23-216-000.

Applicants: Southern Natural Gas Company, L.L.C.

Description: § 4(d) Rate Filing: Spire Negotiated Rate Dec 2022 to be effective 12/1/2022.

Filed Date: 11/30/22.

Accession Number: 20221130-5022.

Comment Date: 5 p.m. ET 12/12/22.

Docket Numbers: RP23-217-000.

Applicants: MountainWest Overthrust Pipeline, LLC.

Description: § 4(d) Rate Filing: Company Contact Information to be effective 1/1/2023.

Filed Date: 11/30/22.

Accession Number: 20221130-5061.

Comment Date: 5 p.m. ET 12/12/22.

Docket Numbers: RP23-218-000.

Applicants: Colorado Interstate Gas Company, L.L.C.

Description: § 4(d) Rate Filing: ATC Update Filing—Totem 2022-2023 to be effective 12/1/2022.

Filed Date: 11/30/22.

Accession Number: 20221130-5062.

Comment Date: 5 p.m. ET 12/12/22.

Docket Numbers: RP23-219-000.

Applicants: White River Hub, LLC.

Description: § 4(d) Rate Filing: Company Contact Information to be effective 1/1/2023.

Filed Date: 11/30/22.

Accession Number: 20221130-5066.

Comment Date: 5 p.m. ET 12/12/22.

Docket Numbers: RP23-220-000.

Applicants: El Paso Natural Gas Company, L.L.C.

Description: § 4(d) Rate Filing: Negotiated Rate Agmt Update (Conoco—Dec 22) to be effective 12/1/2022.

Filed Date: 11/30/22.

Accession Number: 20221130-5072.

Comment Date: 5 p.m. ET 12/12/22.

Docket Numbers: RP23-221-000.

Applicants: MountainWest Pipeline, LLC.

Description: § 4(d) Rate Filing: Company Contact Information to be effective 1/1/2023.

Filed Date: 11/30/22.

Accession Number: 20221130-5076.

Comment Date: 5 p.m. ET 12/12/22.

Docket Numbers: RP23-222-000.

Applicants: MountainWest Pipeline, LLC.

Description: § 4(d) Rate Filing: FGRP Report for 2023 to be effective 1/1/2023.

Filed Date: 11/30/22.

Accession Number: 20221130-5079.

Comment Date: 5 p.m. ET 12/12/22.

Docket Numbers: RP23-223-000.

Applicants: El Paso Natural Gas Company, L.L.C.

Description: § 4(d) Rate Filing: Negotiated Rate Agreement Filing (MIECO #618189) to be effective 12/1/2022.

Filed Date: 11/30/22.

Accession Number: 20221130-5086.

Comment Date: 5 p.m. ET 12/12/22.

Docket Numbers: RP23-224-000.

Applicants: El Paso Natural Gas Company, L.L.C.

Description: § 4(d) Rate Filing: Negotiated Rate Agreements Update (Red Willow #FT3HM000 and EOG #617664)) to be effective 1/1/2023.

Filed Date: 11/30/22.

Accession Number: 20221130-5097.

Comment Date: 5 p.m. ET 12/12/22.

Docket Numbers: RP23-225-000.

Applicants: Young Gas Storage Company, Ltd.

Description: § 4(d) Rate Filing: Annual Fuel Filing 2022 to be effective 1/1/2023.

Filed Date: 11/30/22.

Accession Number: 20221130-5110.

Comment Date: 5 p.m. ET 12/12/22.

Docket Numbers: RP23-226-000.

Applicants: TransColorado Gas Transmission Company LLC.

Description: § 4(d) Rate Filing: TC Quarterly FL&U Update Nov. 2022 to be effective 1/1/2023.

Filed Date: 11/30/22.

Accession Number: 20221130-5125.

Comment Date: 5 p.m. ET 12/12/22.

Docket Numbers: RP23-227-000.

Applicants: Transcontinental Gas Pipe Line Company, LLC.

Description: § 4(d) Rate Filing: Negotiated Rates—Cherokee AGL—Replacement Shippers—Dec 2022 to be effective 12/1/2022.

Filed Date: 11/30/22.

Accession Number: 20221130-5142.

Comment Date: 5 p.m. ET 12/12/22.

Docket Numbers: RP23-228-000.

Applicants: UGI Sunbury, LLC.

Description: Annual Report of Operational Purchases and Sales of UGI Sunbury, LLC.

Filed Date: 11/30/22.

Accession Number: 20221130-5153.

Comment Date: 5 p.m. ET 12/12/22.

Docket Numbers: RP23-229-000.

Applicants: Gulf Run Transmission, LLC.

Description: § 4(d) Rate Filing: NRA—Golden Pass LNG Terminal LLC to be effective 1/1/2023.

Filed Date: 11/30/22.

Accession Number: 20221130-5167.

Comment Date: 5 p.m. ET 12/12/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP22-823-000.

Applicants: Wyoming Interstate Company, L.L.C.

Description: Refund Report: WIC's Refund Report in Docket No. RP22-823-000 to be effective N/A.

Filed Date: 11/8/22.

Accession Number: 20221108-5131.

Comment Date: 5 p.m. ET 12/7/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 30, 2022.
Kimberly D. Bose,
Secretary.

[FR Doc. 2022-26477 Filed 12-5-22; 8:45 am]

BILLING CODE 6717-01-P